DEPARTMENT OF THE INTERIOR

Fish and Wildlife Service

Issuance of Permits

AGENCY: Fish and Wildlife Service, Interior.

ACTION: Notice of issuance of permits for marine mammals.

SUMMARY: The following permits were issued.

ADDRESSES: Documents and other information submitted with these applications are available for review, subject to the requirements of the Privacy Act and Freedom of Information Act, by any party who submits a written request for a copy of such documents to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION: Notice is hereby given that on the dates below, as authorized by the provisions of the Marine Mammal Protection Act of 1972, as amended (16 U.S.C. 1361 et seq.), the Fish and Wildlife Service issued the requested permits subject to certain conditions set forth therein.

Marine Mammals
Permit number | Applicant | Receipt of application Federal Register notice | Permit issuance date
072829 | Thomas M. Taylor | 68 FR 40291; July 7, 2003 | October 21, 2003.
076061 | Jesus Mourra | 68 FR 52608; September 4, 2003 | October 23, 2003.

Dated: October 24, 2003.
Charles S. Hamilton,
Senior Permit Biologist, Branch of Permits, Division of Management Authority.

[FR Doc. 03-28515 Filed 11-13-03; 8:45 am]

BILLING CODE 4310-55-P